FEDERAL COMMUNICATIONS COMMISSION

[OMB 3060-0751]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

The Commission may not conduct or sponsor a collection of information unless it displays a currently valid Office of Management and Budget (OMB) control number. No person shall be subject to any penalty for failing to comply with a collection of information subject to the PRA that does not display a valid OMB control number.

DATES: Written comments should be submitted on or before July 8, 2019. If you anticipate that you will be submitting comments but find it difficult to do so with the period of time allowed by this notice, you should advise the contacts listed below as soon as possible.

ADDRESSES: Direct all PRA comments to Nicholas A. Fraser, OMB, via email Nicholas_A._Fraser@OMB.eop.gov; and to Cathy Williams, FCC, via email PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control No.: 3060-0751.

Title: Contracts and Concessions, 47 CFR 43.51.

Form No.: N/A.

Type of Review: Revision of a currently approved collection.

Respondents: Business or other for-profit entities.

Number of Respondents/Responses: 20 respondents, 20 responses.

Estimated Time per Response: 6-8 hours.

Frequency of Response: On occasion reporting requirement.

Obligation to Respond: Required to obtain or retain benefits. The statutory authority for this information collection is contained in 47 U.S.C. 154, 211, 219 and 220.

Total Annual Burden: 140 hours.

Annual Cost Burden: No cost.

Privacy Act Impact Assessment: No impact(s).

Nature and Extent of Confidentiality: In general, there is no need for confidentiality with this collection of information.

Needs and Uses: The Federal Communications Commission (“Commission”) is requesting that the Office of Management and Budget (OMB) approves a revision for the information collection, titled, “Contracts and Concessions—47 CFR 43.51” under OMB Control Number 3060-0751. On November 29, 2012, the Commission released the International Settlements Policy Reform Order (“ISP Reform Order”), FCC 12-145. In this Order, the Commission decided to eliminate the international settlements policy and certain associated rules, including removal of the Section 43.51(d) filing requirements and removal of Section 43.51(b)(3). As a result, this Supporting Statement reflects a program change of -20 responses and -160 in annual burden hours.

The Commission determined in the ISP Reform Order that the international settlements policy (ISP) and rules had become unnecessarily burdensome on U.S. carriers attempting to negotiate agreements with foreign carriers to exchange traffic at lower rates. The Commission determined that eliminating the ISP, with one exception related to Cuba, would enable more market-based arrangements between U.S. and foreign carriers on all U.S.-international routes, giving all U.S. consumers competitive pricing when they make international calls. When it eliminated the ISP, the Commission eliminated Section 43.51(b)(3), which required that the agreements described in Sections 43.51(a) and 43.51(b) be filed by U.S.-international carriers that were affiliated with foreign carriers that possessed market power on certain U.S.-international. The Commission also removed Section 43.51(d), which required annual reporting by U.S.-international carriers of certain information concerning their agreements for interconnection of an international private line to the U.S. public switched network. The Commission declined in the ISP Reform Order to adopt proposed rules requiring U.S.-international carriers to file, or provide notice of, agreements with foreign carriers to exchange traffic at rates that exceeded the Commission's “benchmark” settlement rates. The Commission stated that it would require U.S. carriers to provide information about any above-benchmark settlement rates on an as-needed basis in connection with an investigation of competition problems or a review of high consumer rates on particular routes, according confidential treatment to the information.

Federal Communications Commission.
Marlene Dortch,
Secretary, Office of the Secretary.

[FR Doc. 2019-11915 Filed 6-6-19; 8:45 am]

BILLING CODE 6712-01-P